DEPARTMENT OF HEALTH AND HUMAN SERVICES

Administration for Children and Families

Proposed Information Collection Activity; Child Care and Development Fund (CCDF) ACF-696 Financial Report (OMB #0970-0163)

AGENCY: Office of Child Care, Administration for Children and Families, HHS.

ACTION: Request for public comment.

SUMMARY: The Administration for Children and Families (ACF) is requesting a 3-year extension of the form ACF-696: Child Care and Development Fund (CCDF) Quarterly Financial Report. This form is currently approved under the ACF Generic Clearance for Financial Reports (OMB #0970-0510; expiration May 31, 2021), and ACF is proposing to reinstate the previous OMB number under which this form had been approved. There are no changes requested to the form.

DATES: Comments due within 60 days of publication. In compliance with the requirements of Section 3506(c)(2)(A) of the Paperwork Reduction Act of 1995, ACF is soliciting public comment on the specific aspects of the information collection described above.

ADDRESSES: Copies of the proposed collection of information can be obtained and comments may be forwarded by emailing infocollection@acf.hhs.gov. Alternatively, copies can also be obtained by writing to the Administration for Children and Families, Office of Planning, Research, and Evaluation (OPRE), 330 C Street SW, Washington, DC 20201, Attn: ACF Reports Clearance Officer. All requests, emailed or written, should be identified by the title of the information collection.

SUPPLEMENTARY INFORMATION: Description: The ACF-696 Financial Report along with the instructions for completion of Form ACF-696, Financial Reporting Form for CCDF are being submitted for renewal with no changes under a previous OMB number. The form collects CCDF financial expenditures data for the 50 States, the District of Columbia, and five U.S. Territories that receive CCDF funding (American Samoa, Commonwealth of Northern Mariana Islands, Guam, Puerto Rico, and Virgin Islands). This report form is submitted quarterly by the referenced CCDF grant recipients. The form collects expenditures data for all respondents that receive CCDF funding.

Respondents: The 50 states, the District of Columbia, and five U.S. Territories that receive CCDF funding (American Samoa, Commonwealth of Northern Mariana Islands, Guam, Puerto Rico, and Virgin Islands).

Annual Burden Estimates
Instrument | Annual number of respondents | Annual number of responses per respondent | Average burden hours per response | Annual burden hours
Child Care and Development Fund ACF-696 Financial Report | 56 | 4 | 5 | 1,120

Estimated Total Annual Burden Hours: 1,120.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Section 658G(d), Pub. L. 113-186, 128 Stat. 1971.

Mary B. Jones,
ACF/OPRE Certifying Officer.

[FR Doc. 2021-00016 Filed 1-6-21; 8:45 am]

BILLING CODE 4184-43-P